DEPARTMENT OF AGRICULTURE

Natural Resources Conservation Service

Notice of Proposed Change to the Natural Resources Conservation Service's National Handbook of Conservation Practices

AGENCY: Natural Resources Conservation Service, USDA, Maine State Office.

ACTION: Notice of availability of proposed changes in the NRCS National Handbook of Conservation Practices, Section IV of the Maine State NRCS Field Office Technical Guide (FOTG) located at http://www.me.nrcs.usda.gov/technical/draftStandards.html for review and comment.

SUMMARY: It is the intention of NRCS in Maine to issue revised conservation practice standards in its National Handbook of Conservation Practices. The revised standard is: 370 Atmospheric Resource Quality Management.

DATES: Comments will be received on or before May 6, 2004.

FOR FURTHER INFORMATION CONTACT: Inquire in writing to Christopher R. Jones, State Resource Conservationist, Natural Resource Conservation Service (NRCS), 967 Illinois Avenue, Suite #3; Bangor, Maine 04401. Copies of the standard will be made available upon written request.

SUPPLEMENTARY INFORMATION: Section 343 of the Federal Agricultural Improvement and Reform Act of 1996 states that revisions made after enactment of the law to NRCS State Technical Guides used to carry out highly erodible land and wetland provisions of the law shall be made available for public review and comment. For the next 30 days the NRCS in Maine will receive comments relative to the proposed changes. Following that period, a determination will be made by the NRCS in Maine regarding disposition of those comments and a final determination of change will be made.

Dated: March 16, 2004.
Christopher R. Jones,
State Resource Conservationist.

[FR Doc. 04-7680 Filed 4-5-04; 8:45 am]

BILLING CODE 3410-06-P